DEPARTMENT OF COMMERCE

Office of the Secretary

2 CFR Part 1327

15 CFR Parts 14 and 24

[Docket No.: 150320288-5547-02]

RIN 0605-AA34

Federal Awarding Agency Regulatory Implementation of Office of Management and Budget's Uniform Administrative Requirements, Cost Principles, and Audit Requirements for Federal Awards

AGENCY: Office of the Secretary, Department of Commerce.

ACTION: Final rule.

SUMMARY: The Department of Commerce publishes this rule to adopt as a final rule, without change, a joint interim final rule published with the Office of Management and Budget (OMB) for all Federal award-making agencies that implemented guidance on Uniform Administrative Requirements, Cost Principles, and Audit Requirements for Federal Awards (Uniform Guidance). This rule is necessary to incorporate into regulation and thus bring into effect the Uniform Guidance as required by OMB for the Department of Commerce.

DATES: This rule is effective August 27, 2015.

FOR FURTHER INFORMATION CONTACT: John Geisen at 202-482-0602 or jgeisen@doc.gov.

SUPPLEMENTARY INFORMATION: On December 19, 2014, OMB issued an interim final rule that implemented for all Federal award-making agencies the final guidance on Uniform Administrative Requirements, Cost Principles, and Audit Requirements for Federal Awards (Uniform Guidance). In that interim final rule, Federal awarding agencies, including the Department of Commerce, joined together to implement the Uniform Guidance in their respective chapters of title 2 of the CFR, and, where approved by OMB, implemented any exceptions to the Uniform Guidance by including the relevant language in their regulations. Where applicable, agencies provided additional language beyond that included in 2 CFR 200, consistent with their existing policy, to provide more detail with respect to how they intend to implement the policy, where appropriate.

In addition, the interim final rule made technical corrections to the Uniform Guidance, where needed, to ensure that particular language in the final guidance matched with the Council on Financial Assistance Reform's intent and to avoid any erroneous implementation of the guidance. The interim final rule went into effect on December 26, 2014. The public comment period for the interim final rule closed on February 17, 2015.

The Department of Commerce publishes this final rule to adopt the provisions of the interim final rule. The Department did not request any exceptions to the Uniform Guidance and did not provide any language beyond what was included in 2 CFR 200. The Department did not receive any public comments on its regulations. Accordingly, the Department makes no changes to the interim final rule.

Classification

Paperwork Reduction Act

This rule contains no collections of information subject to the requirements of the Paperwork Reduction Act (44 U.S.C. Ch. 3506). Notwithstanding any other provision of law, no person is required to respond to, nor shall any person be subject to a penalty for failure to comply with a collection of information subject to the Paperwork Reduction Act unless that collection displays a currently valid OMB Control Number.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

Executive Order 12866

Pursuant to Executive Order 12866, OMB has determined this final rule to be not significant.

Barry Berkowitz,
Director of Acquisition Management, U.S. Department of Commerce.

Accordingly, the interim rule amending 2 CFR part 1327, and 15 CFR parts 14 and 24, which was published at 79 FR 75867 on December 19, 2014, is adopted as a final rule without change.

[FR Doc. 2015-18196 Filed 7-27-15; 8:45 am]

BILLING CODE 3510-17-M